DEPARTMENT OF JUSTICE

Drug Enforcement Administration

[Docket No. 02-41]

Jacqueline Cleggett-Lucas, M.D., JCL Enterprises, L.L.C, Revocation of Registration

On March 21, 2002, the Deputy Assistant Administrator, Office of Diversion Control, Drug Enforcement Administration (DEA), issued an Order to Show Cause to Jacqueline Cleggett-Lucas, M.D., and JCL Enterprises, L.L.C. (Respondents) ¹, proposing to revoke her DEA Certificate of Registration, BC3404681, pursuant to 21 U.S.C. 824(a)(4) and deny any pending applications for renewal or modification of such registration under 21 U.S.C. 823(f). As a basis for revocation, the Order to Show Cause alleged that the Respondents' continued registration would be inconsistent with the public interest and that the Respondent was no longer authorized to handle controlled substances in Louisiana, the State in which she practices.

¹ In her July 19, 2002, Opinion, Order, and Recommended Ruling, Administrative Law Judge Gail A. Randall noted that for purposes of these proceedings, the two names represented herein are separate entities who obtained a single DEA registration by virtue of Dr. Gleggett-Lucas' ability to handle controlled substances. The Deputy Administrator hereby adopts that finding for purposes of this final ruling.

By letter dated April 24, 2002, the Respondents, through legal counsel, requested a hearing in this matter. In the request for hearing, the Respondents legal counsel argued that “(Respondents) have not been found guilty of ‘prescribing large amounts of controlled substances in an inappropriate (manner) to many people who do not [have] proven indications for the need of pain alleviating drugs.’ ” The Respondents further asserted that any decision involving the DEA license at issue should be withheld pending the outcome of a scheduled hearing before the Louisiana State Board of Medical Examiners (Board).

On May 31, 2002, the Government filed Government's Motion for Summary Disposition and a request for stay of proceedings pending a ruling on its motion. On June 3, 2002, the presiding Administrative Law Judge Gail A. Randall (Judge Randall) issued an Order providing Respondents until June 24, 2002, to respond to the Government's motion. However, the Respondents did not file a response.

On July 19, 2002, Judge Randall issued her Opinion, Order, and Recommended Ruling of the Administrative Law Judge (Opinion and Recommended Ruling) where she granted the Government's motion for summary disposition and found that the Respondents lack authorization to handle controlled substances in the State of Louisiana. In granting the Government's motion, Judge Randall also recommended that the Respondents’ DEA registration be revoked and any pending applications for renewal be denied. Neither party filed exceptions to her Opinion and Recommended Ruling, and on October 29, 2002, Judge Randall transmitted the record of these proceedings to the Office of the Deputy Administrator. The Deputy Administrator has considered the record in its entirety, and pursuant to 21 CFR 1316.67, hereby issues his final order based upon findings of fact and conclusions of law as hereinafter set forth.

The Deputy Administrator finds that the Respondents are currently registered as a practitioner under DEA Certificate of Registration BC3404681. That registration was issued under the names of two separate entities at an address in New Orleans, Louisiana. On February 14, 2002, the Board issued its Order for Summary Suspension of Medical License with respect to the Respondents’ Louisiana medical license. The Board's action was based on a finding that the Respondent inappropriately prescribed “large amounts of controlled drugs” to individuals for no legitimate medical purpose. While the Civil District Court of Louisiana granted the Respondents' subsequent request for stay of the Board's suspension order, that same court lifted the stay on February 22, 2002, and reinstated the suspension of Respondents' medical license. Notwithstanding the Respondents' request that DEA withhold its decision regarding her Certificate of Registration pending completion of a Board hearing, there is no evidence before the Deputy Administrator that the Board has taken any action to lift the current suspension of the Respondent's medical license.

In her Opinion and Recommended Ruling, Judge Randall found that the Respondent is without State authority to handle controlled substances. The Deputy Administrator adopts the finding of the Administrative Law Judge.

DEA does not have statutory authority under the Controlled Substances Act to issue or maintain a registration if the applicant or registrant is without State authority to handle controlled substances in the State in which he conducts business. See 21 U.S.C. 802(21), 823(f) and 824(a)(3). This prerequisite has been consistently upheld. See Muttaiya Darmarajeh, M.D.; 66 FR 52936 (2001); Dominick A. Ricci, M.D., 58 FR 51104 (1993); Bobby Watts, M.D., 53 FR 11919 (1988).

In light of the above, Judge Randall properly granted the Government's Motion for Summary Disposition. There is no dispute that the Respondents are currently without authorization to handle controlled substances in Louisiana. Therefore, it is well settled that when no question of material fact is involved, a plenary, adversary administrative proceeding involving evidence and cross-examination of witnesses is not obligatory. See Gilbert Ross, M.D., 61 FR 8664 (1996); Philip E. Kirk, M.D., 48 FR 32,887 (1983), aff'd sub nom Kirk v. Mullen, 749 F.2d 297 (6th Cir. 1984); NLRB v. International Association of Bridge, Structural and Ornamental Ironworkers, AFL-CIO, 549 F.2d 634 (9th Cir. 1977).

Accordingly, the Deputy Administrator of the Drug Enforcement Administration, pursuant to the authority vested in him by 21 U.S.C. 823 and 824 and CFR 0.100(b) and 0.104, hereby orders that DEA Certificate of Registration BC3404681, issued to Jacqueline Cleggett-Lucas, M.D. and JCL Enterprises, L.L.C. be, and it hereby is, revoked. The Deputy Administrator further orders that any pending applications for renewal of such registration be, and they hereby are, denied. This order is effective June 9, 2003.

Dated: April 21, 2003.
John B. Brown III,
Deputy Administrator.

[FR Doc. 03-11435 Filed 5-7-03; 8:45 am]

BILLING CODE 4410-09-M